DEPARTMENT OF HEALTH AND HUMAN SERVICES

National Institutes of Health

Office of the Director; Notice of Charter Renewal

In accordance with Title 42 of the U.S. Code of Federal Regulations, Section 217a, notice is hereby given that the Charter for the Advisory Committee to the Deputy Director for Intramural Research, National Institutes of Health was renewed for an additional two-year period on August 15, 2021.

It is determined that the Advisory Committee to the Deputy Director for Intramural Research, National Institutes of Health is in the public interest in connection with the performance of duties imposed on the National Institutes of Health by law, and that these duties can best be performed through the advice and counsel of this group.

Inquiries may be directed to Claire Harris, Director, Office of Federal Advisory Committee Policy, Office of the Director, National Institutes of Health, 6701 Democracy Boulevard, Suite 1000, Bethesda, Maryland 20892 (Mail Stop Code 4875), Telephone (301) 496-2123, or harriscl@mail.nih.gov.

Dated: August 17, 2021.
David W. Freeman,
Program Analyst, Office of Federal Advisory Committee Policy.

[FR Doc. 2021-17989 Filed 8-20-21; 8:45 am]

BILLING CODE 4140-01-P